NATIONAL FOUNDATION FOR THE ARTS AND THE HUMANITIES

Institute of Museum and Library Services

Notice of Proposed Information Collection Request: Proposed Needs Assessment Study: Measures That Matter—Assessing Public Libraries' Activities Related to Workforce Development

AGENCY: Institute of Museum and Library Services, National Foundation on the Arts and the Humanities.

ACTION: Notice, request for comments on this collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed.

DATES: Written comments must be submitted to the office listed in the ADDRESSES section below on or before October 19, 2020.

ADDRESSES: Send comments to: Dr. Connie Bodner, Director, Office of Grants Policy and Management, Institute of Museum and Library Services, 955 L'Enfant Plaza North SW, Suite 4000, Washington, DC 20024-2135. Dr. Bodner can be reached by Telephone: 202-653-4636, by email at cbodner@imls.gov, or by teletype (TTY/TDD) for persons with hearing difficulty at 202-653-4614.

FOR FURTHER INFORMATION CONTACT: Dr. Mathew Birnbaum, Supervising Social Science Researcher, Office of Impact Assessment and Learning, Institute of Museum and Library Services, 955 L'Enfant Plaza North SW, Suite 4000, Washington, DC 20024-2135. Dr. Birnbaum can be reached by Telephone: 202-653-4760, by email at mbirnbaum@imls.gov, or by teletype (TTY/TDD) for persons with hearing difficulty at 202-653-4614.

SUPPLEMENTARY INFORMATION: By this notice, IMLS is soliciting comments concerning a plan to conduct a needs assessment study entitled “Measures that Matter: Assessing Public Library Activities Related to Workforce Development.” The study is intended to develop a meaningful approach to measuring the contributions of library-based workforce development activities. It also is intended to assess whether this approach could be used to measure additional library activities that seek to contribute to other dimensions of social wellbeing in the nation's communities. A copy of the proposed information collection request can be obtained by contacting the individual listed in the ADDRESSES section of this notice.

I. Background

The Institute of Museum and Library Services is the primary source of federal support for the nation's libraries and museums. We advance, support, and empower America's museums, libraries, and related organizations through grant making, research, and policy development. Our vision is a nation where museums and libraries work together to transform the lives of individuals and communities. To learn more, visit www.imls.gov.

II. Current Actions

In partnership with the Chief Officers of State Library Associations (COSLA), IMLS launched Measures that Matter in 2016, an initiative for coordinating conversations about existing approaches to gathering and using data to improve alignment of public library services, programs, and collections with communities' needs and emerging opportunities. An outgrowth of this effort, this proposed 18-month assessment seeks to pilot an approach for measuring the contributions of library-based workforce development activities and also for ascertaining whether this approach can be used for measuring other library activities intended to influence various dimensions of community wellbeing. This proposed investigation will identify a representative sample of libraries and complete case studies about them using a mix of research methods involving reviews of secondary and administrative data, surveys, interviews and focus groups.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology (e.g., permitting electronic submissions of responses).

Agency: Institute of Museum and Library Services.

Title: Proposed Needs Assessment Study: Measures that Matter—Assessing Public Libraries' Activities Related to Workforce Development.

OMB Number: 3137-TBD.

Frequency: Once.

Affected Public: Public library staff at local and state levels, public officials and service providers involved with workforce development efforts at the libraries, and residents participating in the libraries' workforce development activities.

Number of Libraries in Sample: 10-15.

Estimated Number of Respondents: 600-900.

Estimated Average Burden per Response: TBD.

Estimated Total Annual Burden: TBD.

Total Annualized Capital/Startup Costs: N/A.

Total Annual Costs: TBD.

Public Comments Invited: Comments submitted in response to this notice will be summarized and/or included in the request for OMB's clearance of this information collection.

Dated: August 17, 2020.
Kim Miller,
Senior Grants Management Specialist, Institute of Museum and Library Services.

[FR Doc. 2020-18302 Filed 8-19-20; 8:45 am]

BILLING CODE 7036-01-P